DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel; PAR Panel: R03 Musculoskeletal, Skin, Oral and Dental Sciences.

Date: July 30-31, 2025.

Time: 9:00 a.m. to 6:00 p.m.

Agenda: To review and evaluate grant applications.

Address: National Institutes of Health, Rockledge II, 6701 Rockledge Drive, Bethesda, MD 20892.

Meeting Format: Virtual Meeting.

Contact Person: Yun Mei, MD, Scientific Review Officer, Scientific Review Branch, NIDCR National Institutes of Health, 6701 Democracy Boulevard, Suite #672, Bethesda, MD 20892, 301-827-4639, yun.mei@nih.gov.

Name of Committee: Center for Scientific Review Special Emphasis Panel; Integrated Respiratory Research.

Date: July 30, 2025.

Time: 9:00 a.m. to 7:30 p.m.

Agenda: To review and evaluate grant applications.

Address: National Institutes of Health, Rockledge II, 6701 Rockledge Drive, Bethesda, MD 20892.

Meeting Format: Virtual Meeting.

Contact Person: Prashant Sharma, Ph.D., Scientific Review Officer, Special Review Branch, Division of Extramural Activities, 9609 Medical Center Drive, Room 7W1612, National Cancer Institute, NIH, Rockville, MD 20850, (240) 275-6351, prashant.sharma@nih.gov.

Name of Committee: Center for Scientific Review Special Emphasis Panel; Member Conflict: Advancing Therapeutics.

Date: July 30, 2025.

Time: 9:30 a.m. to 12:30 p.m.

Agenda: To review and evaluate grant applications.

Address: National Institutes of Health, Rockledge II, 6701 Rockledge Drive, Bethesda, MD 20892.

Meeting Format: Virtual Meeting.

Contact Person: Michael James Knapp, Ph.D., Scientific Review Officer, Center for Scientific Review, National Institutes of Health, 6701 Rockledge Drive, Bethesda, MD 20892, (301) 402-0600, mike.knapp@nih.gov.

Name of Committee: Center for Scientific Review Special Emphasis Panel; RFA Panel: Biospecimen Science Technologies for Basic and Clinical Cancer.

Date: July 30, 2025.

Time: 10:00 a.m. to 6:00 p.m.

Agenda: To review and evaluate grant applications.

Address: National Institutes of Health, Rockledge II, 6701 Rockledge Drive, Bethesda, MD 20892.

Meeting Format: Virtual Meeting.

Contact Person: Wing-hang Tong, Ph.D., Scientific Review Officer, Center for Scientific Review, National Institutes of Health, 6701 Rockledge Drive, Bethesda, MD 20892, (302) 402-0360, tongw@mail.nih.gov.

Name of Committee: Center for Scientific Review Special Emphasis Panel; Biobehavioral Processes.

Date: July 30, 2025.

Time: 10:00 a.m. to 5:00 p.m.

Agenda: To review and evaluate grant applications.

Address: National Institutes of Health, Rockledge II, 6701 Rockledge Drive, Bethesda, MD 20892.

Meeting Format: Virtual Meeting.

Contact Person: Devon Rene Oskvig, Ph.D., Scientific Review Officer, Division of Extramural Research, National Institute on Drug Abuse, 11601 Landsdown Street, Suite 3WF, Rockville, MD 20852, (301) 402-6965, devon.oskvig@nih.gov.

Name of Committee: Center for Scientific Review Special Emphasis Panel; PAR Panel: Clinical and Translational Exploratory/Developmental Studies.

Date: July 30-31, 2025.

Time: 10:00 a.m. to 6:00 p.m.

Agenda: To review and evaluate grant applications.

Address: National Institutes of Health, Rockledge II, 6701 Rockledge Drive, Bethesda, MD 20892.

Meeting Format: Virtual Meeting.

Contact Person: Susan Lynn Spence, Ph.D., Scientific Review Officer, Research Technology and Contract Review Branch, Division of Extramural Activities, 9609 Medical Center Drive, Rm. 7W126, National Cancer Institute, NIH, Rockville, MD 20850, susan.spence@nih.gov.

Name of Committee: Center for Scientific Review Special Emphasis Panel; RFA Panel: Single Cell Opioid Responses in the Context of HIV (SCORCH) Program: Data Mining and Functional Validation.

Date: July 30, 2025.

Time: 10:00 a.m. to 4:00 p.m.

Agenda: To review and evaluate grant applications.

Address: National Institutes of Health, Rockledge II, 6701 Rockledge Drive, Bethesda, MD 20892.

Meeting Format: Virtual Meeting.

Contact Person: Caitlin Elizabeth Angela Moyer, Ph.D., Scientific Review Officer, Scientific Review Branch, National Institute on Drug Abuse, NIH, 301 North Stonestreet Avenue, MSC 6021, Bethesda, MD 20892, (301) 443-4577, caitlin.moyer@nih.gov.

Name of Committee: Center for Scientific Review Special Emphasis Panel; RFA-AI-24-069 Centers for Accelerating Phage (Bacteriophage) Therapy to Combat ESKAPE Pathogens (CAPT-CEP) (P01 Clinical Trial Not Allowed).

Date: July 30-31, 2025.

Time: 10:00 a.m. to 6:00 p.m.

Agenda: To review and evaluate grant applications.

Address: National Institutes of Health, Rockledge II, 6701 Rockledge Drive, Bethesda, MD 20892.

Meeting Format: Virtual Meeting.

Contact Person: Soheyla Saadi, Ph.D., Scientific Review Program, DEA/NIAID/NIH/DHHS, 5601 Fishers Lane, MSC-9823, Rockville, MD 20892, (240) 669-5178, saadisoh@niaid.nih.gov.

Name of Committee: Center for Scientific Review Special Emphasis Panel; Research Enhancement Awards: Molecular Genetics, Cellular and Cancer Biology.

Date: July 30, 2025.

Time: 11:00 a.m. to 6:00 p.m.

Agenda: To review and evaluate grant applications.

Address: National Institutes of Health, Rockledge II, 6701 Rockledge Drive, Bethesda, MD 20892.

Meeting Format: Virtual Meeting.

Contact Person: Lisa A. Dunbar, Ph.D., Scientific Review Officer, Office of Scientific Review, National Institute of General Medical Sciences, National Institutes of Health, 45 Center Drive, Room 3AN12, Bethesda, MD 20892, dunbarl@mail.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: June 26, 2025.
Bruce A. George,
Program Analyst, Office of Federal Advisory Committee Policy.

[FR Doc. 2025-12031 Filed 6-27-25; 8:45 am]

BILLING CODE 4140-01-P